NATIONAL ARCHIVES AND RECORDS ADMINISTRATION

[NARA-2015-060]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by September 24, 2015. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road, College Park, MD 20740-6001.

Email: request.schedule@nara.gov.

Fax: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

No agencies may destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, this notice states that the schedule has agency-wide applicability (in the case of schedules that cover records that may be accumulated throughout an agency) or lists the organizational unit(s) accumulating the records, provides the control number assigned to each schedule, the total number of schedule items, and the number of temporary items (the records proposed for destruction), and includes a brief description of the temporary records. The records schedule itself contains a full description of the records at the file unit level as well as their disposition. If NARA staff has prepared an appraisal memorandum for the schedule, it also includes information about the records. You may request additional information about the disposition process at the addresses above.

Schedules Pending

1. Department of the Army, Agency-wide (DAA-AU-2014-0029, 5 items, 5 temporary items). Records relating to human resources management including financial documents, photographs, and general personnel action files.

2. Department of Defense, Defense Threat Reduction Agency (DAA-0374-2014-0035, 1 item, 1 temporary item). Mechanical engineering drawings of tools and tool design.

3. Department of Defense, National Geospatial-Intelligence Agency (DAA-0537-2014-0002, 2 items, 2 temporary items). Records include preliminary oversight investigative files and quarterly reports.

4. Department of Defense, Office of the Secretary of Defense (DAA-0330-2014-0020, 6 items, 1 temporary item). Reference files of the Defense POW/MIA Accounting Agency. Proposed for permanent retention are case files, witness files, camp files, thematic subject files, and audiovisual records.

5. Department of Energy, Agency-wide (DAA-0434-2015-0005, 3 items, 3 temporary items). Records relating to processing security clearances and access authorizations.

6. Department of Justice, Criminal Division (DAA-0060-2015-0004, 5 items, 5 temporary items). Program records related to asset forfeiture and equitable sharing administration.

7. Department of Labor, Office of the Secretary and Deputy Secretary (DAA-0174-2014-0011, 2 items, 2 temporary items). Generic letters received in reaction to special issues or events. Also included are related working papers.

8. Department of the Treasury, Internal Revenue Service (DAA-0058-2015-0005, 1 item, 1 temporary item). Document transmittal form used in routine processing of taxpayer liability agreements.

9. Consumer Financial Protection Bureau, Division of Research, Markets, & Regulations (DAA-0587-2015-0002, 11 items, 8 temporary items). Records include rulemaking and publications development records, informal internal regulatory guidance, third-party publications and data, and background material. Proposed for permanent retention are public rulemaking dockets, interpretations of laws and regulations, and official research publications.

10. National Archives and Records Administration, Research Services (N2-84-15-1, 1 item, 1 temporary item). Non-record materials relating to records of Foreign Service Posts of the Department of State. These materials were accessioned to the National Archives but lack sufficient historical value to warrant continued preservation.

Dated: August 19, 2015.
Paul M. Wester, Jr.,
Chief Records Officer for the U.S. Government.

[FR Doc. 2015-21075 Filed 8-24-15; 8:45 am]

BILLING CODE 7515-01-P